DEPARTMENT OF HOUSING AND URBAN DEVELOPMENT

[Docket No. FR-4903-N-27]

Notice of Submission of Proposed Information Collection to OMB: Early Doctoral Student Research Grant Program

AGENCY: Office of the Chief Information Officer, HUD.

ACTION: Notice.

SUMMARY: The proposed information collection requirement described below has been submitted to the Office of Management and Budget (OMB) for review, as required by the Paperwork Reduction Act. The Department is soliciting public comments on the subject proposal.

This is a request for an extension of the current approval to collect information necessary to select grant applicants among doctoral students and monitor the grantees performance. Grants will enable them to complete research papers on HUD-related topics.

DATES: Comments Due Date: May 10, 2004.

ADDRESSES: Interested persons are invited to submit comments regarding this proposal. Comments should refer to the proposal by name and/or OMB approval number (2528-0216). Should be sent to: HUD Desk Officer, Office of Management and Budget, Room 10235, New Executive Office Building, Washington, DC 20503; Fax number (202) 395-6974; E-mail Melanie_Kadlic@omb.eop.gov.

FOR FURTHER INFORMATION CONTACT: Wayne Eddins, Reports Management Officer, AYO, Department of Housing and Urban Development, 451 Seventh Street, Southwest, Washington, DC 20410; e-mail Wayne_Eddins@HUD.gov; telephone (202) 708-2374. This is not a toll-free number. Copies of the proposed forms and other available documents submitted to OMB may be obtained from Mr. Eddins or on HUD's web page at http://www5.hud.gov:63001/po/i/icbts/collectionsearch.cfm.

SUPPLEMENTARY INFORMATION: The Department has submitted the proposal for the collection of information, as described below, to OMB for review, as required by the Paperwork Reduction Act (44 U.S.C. chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the contact information of an agency official familiar with the proposal and the OMB Desk Officer for the Department.

This Notice also lists the following information:

Title of Proposal: Early Doctoral Student Research Grant Program.

OMB Approval Number: 2528-0216.

Form Numbers: SF-424, HUD-424B, HUD-424CB, HUD-2993, HUD-2994, and HUD-96010.

Description of the Need for the Information and Its Proposed Use: This is a request for an extension of the current approval to collect information necessary to select grant applicants among doctoral students and monitor the grantees performance. Grants will enable them to complete research papers on HUD-related topics.

Respondents: Individuals or households, Not-for-profit institutions.

Frequency of Submission: On occasion, Semi-annually.

| Number of respondents | Annual responses | × | Hours per response | = | Burden hours
Reporting Burden | 80 | 125 |  | 22.16 |  | 2,770

Total Estimated Burden Hours: 2,770.

Status: Extension of a currently approved collection.

Authority: Section 3507 of the Paperwork Reduction Act of 1995, 44 U.S.C. 35, as amended.

Dated: April 2, 2004.
Wayne Eddins,
Departmental Reports Management Officer, Office of the Chief Information Officer.

[FR Doc. 04-7915 Filed 4-7-04; 8:45 am]

BILLING CODE 4210-72-P